DEPARTMENT OF COMMERCE

International Trade Administration

[A-570-827]

Certain Cased Pencils From the People's Republic of China: Final Results of Antidumping Duty Administrative Review; 2015-2016

AGENCY: Enforcement and Compliance, International Trade Administration, Department of Commerce.

SUMMARY: On September 15, 2017, the Department of Commerce (Commerce) published in the Federal Register the preliminary results of the administrative review of the antidumping duty order on certain cased pencils (pencils) from the People's Republic of China (China) for the period of review (POR) December 1, 2015, through November 30, 2016. We continue to find that Tianjin Tonghe Stationery Industrial Co. Ltd. (Tianjin Tonghe) and Ningbo Homey Union Co., Ltd. (Ningbo Homey) are not eligible for separate rates and, therefore, remain part of the China-wide entity. We also determine that the entity composed of Wah Yuen Stationery Co. Ltd. and Shandong Wah Yuen Stationery Co. Ltd. (collectively, the Wah Yuen entity) had no shipments during the POR.

DATES: Applicable January 23, 2018.

FOR FURTHER INFORMATION CONTACT: Sergio Balbontin, AD/CVD Operations, Office VIII, Enforcement and Compliance, International Trade Administration, U.S. Department of Commerce, 1401 Constitution Avenue NW, Washington, DC 20230; telephone: 202-482-6478.

SUPPLEMENTARY INFORMATION:

Background

On September 15, 2017, Commerce published the Preliminary Results.¹ On October 16, 2017, Prime Time Commerce, LLC (Prime Time), an importer, submitted a case brief.² We received no other interested party comments.

¹ See Certain Cased Pencils from the People's Republic of China: Preliminary Results of Antidumping Duty Administrative Review, Preliminary Determination of No Shipments, and Rescission of Review, in Part; 2015-2016, 82 FR 43329 (September 15, 2017) (Preliminary Results) and accompanying Memorandum from James Maeder, Senior Director performing the duties of the Associate Deputy Assistant Secretary for Antidumping and Countervailing Duty Operations, to Gary Taverman, Deputy Assistant Secretary for Antidumping and Countervailing Duty Operations, performing the non-exclusive functions and duties of the Assistant Secretary for Enforcement and Compliance, “Decision Memorandum for Preliminary Results of Antidumping Duty Administrative Review, Preliminary Determination of No Shipments, and Partial Rescission: Certain Cased Pencils from the People's Republic of China; 2014-2015” (Preliminary Decision Memorandum).

² See Letter from Prime Time, “Certain Cased Pencils from the People's Republic of China: Case Brief Prime Time Commerce LLC,” dated October 16, 2017.

Scope of the Order

The merchandise subject to the order includes certain cased pencils from China. The subject merchandise is currently classifiable under Harmonized Tariff Schedule of the United States (HTSUS) subheading 9609.10.00. Although the HTSUS subheading is provided for convenience and customs purposes, the written product description is dispositive. A full description of the scope of the order is contained in the Issues and Decision Memorandum.³

³ See Memorandum from James Maeder, Senior Director performing the duties of the Associate Deputy Assistant Secretary for Antidumping and Countervailing Duty Operations, to Gary Taverman, Deputy Assistant Secretary for Antidumping and Countervailing Duty Operations, performing the non-exclusive functions and duties of the Assistant Secretary for Enforcement and Compliance, “Issues and Decision Memorandum: Certain Cased Pencils from the People's Republic of China; 2015-2016,” dated concurrently with and hereby adopted by this notice. (Issues and Decision Memorandum).

Analysis of Comments Received

All issues raised in Prime Time's case brief are addressed in the accompanying Issues and Decision Memorandum.⁴ A list of these issues is attached to this notice as an Appendix. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/index.html. The signed Issues and Decision Memorandum and electronic version of the Issues and Decision Memorandum are identical in content.

⁴ Id.

Final Determination of No Shipments

In the Preliminary Results, Commerce determined the Wah Yuen entity did not have any shipments of subject merchandise during the POR.⁵ As we have not received any information to contradict our preliminary finding, we determine that the Wah Yuen entity did not have any shipments of subject merchandise during the POR. We will issue appropriate instructions that are consistent with our “automatic assessment” clarification, for these final results.⁶

⁵ See Preliminary Results, 82 FR 43330, and Preliminary Decision Memorandum at 4.

⁶ See Non-Market Economy Antidumping Proceedings: Assessment of Antidumping Duties, 76 FR 65694 (October 24, 2011) (Assessment Notice); see also “Assessment Rates” section below.

Methodology

Commerce conducted this review in accordance with section 751(a)(1)(B) of the Tariff Act of 1930, as amended (the Act). In the Preliminary Results, Commerce determined that Tianjin Tonghe and Ningbo Homey were ineligible for a separate rate and are part of the China-wide entity, subject to the China-wide entity rate of 114.90 percent.⁷ As we have not received any information since the issuance of the Preliminary Results that provides a basis for reconsidering this determination, we continue to find that Tianjin Tonghe and Ningbo Homey are ineligible for a separate rate.

⁷ See Preliminary Results, 82 FR at 43330-43331, and Preliminary Decision Memorandum at 5-6.

As noted in the Preliminary Results, Commerce's policy regarding conditional review of the China-wide entity applies to this administrative review.⁸ Under this policy, the China-wide entity will not be under review unless a party specifically requests, or Commerce self-initiates, a review of the entity. Because no party requested a review of the China-wide entity, and we did not self-initiate a review, the entity is not under review and the entity's rate is not subject to change.

⁸ See Antidumping Proceedings: Announcement of Change in Department Practice for Respondent Selection in Antidumping Duty Proceedings and Conditional Review of the Nonmarket Economy Entity in NME Antidumping Duty Proceedings, 78 FR 65963 (November 4, 2013).

For a full description of the methodology underlying our conclusions, see Issues and Decision Memorandum.

Assessment Rates

Pursuant to section 751(a)(2)(C) of the Act and 19 CFR 351.212(b), Commerce will determine, and U.S. Customs and Border Protection (CBP) shall assess, antidumping duties on all appropriate entries of subject merchandise in accordance with the final results of this review. Commerce intends to issue assessment instructions to CBP 15 days after the date of publication of these final results of review. With regard to Tianjin Tonghe and Ningbo Homey, we will instruct CBP to apply an assessment rate of 114.19 percent of the entered value of subject merchandise during the POR which was exported by those companies.

Additionally, consistent with its assessment practice in non-market economy (NME) cases, for the Wah Yuen entity which Commerce determined had no shipments of the subject merchandise, any suspended entries made under that exporter's case number (i.e., at that exporter's rate) will be liquidated at the China-wide rate.⁹

⁹ For a full discussion of this practice see Assessment Notice.

Cash Deposit Requirements

The following cash deposit requirements will be effective upon publication of these final results of administrative review for shipments of the subject merchandise from China entered, or withdrawn from warehouse, for consumption on or after the publication date, as provided by sections 751(a)(2)(C) of the Act: (1) For companies which have a separate rate, the cash deposit rate will be that established in these final results (except, if the rate is zero or de minimis, then zero cash deposit will be required); (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(5).

Dated: January 16, 2018.
Gary Taverman,
Deputy Assistant Secretary, for Antidumping and Countervailing Duty Operations, performing the non-exclusive functions and duties of the Assistant Secretary for Enforcement and Compliance.

Appendix

List of Topics Discussed in the Issues and Decision Memorandum

1. Summary

2. Background

3. Scope of the Order

4. Discussion of the Issues

Comment 1: Whether Commerce Erred by Rejecting Prime Time's Information Submitted on Behalf of Ningbo Homey

Comment 2: Whether Commerce Should Calculate an Exporter/Importer-Specific Margin for Prime Time

5. Recommendation

[FR Doc. 2018-01032 Filed 1-22-18; 8:45 am]

BILLING CODE 3510-DS-P